DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground. Modified | Communities affected
Baker County, Florida, and Incorporated Areas
Docket No.: FEMA-B-7724
Barber Bay Tributary | At Confluence with South Prong Saint Mary's River | +85 | City of Macclenny.
| 1,100 feet upstream of County Road 228 | +124
| 3,000 feet upstream of County Road 228 | +128
South Prong Saint Mary's River | 6,459 feet downstream from the confluence with Barber Bay Tributary | +79 | Baker County (Unincorporated Areas).
| 8,800 feet upstream from the confluence with South Prong St. Mary's River Tributary 8 | +100
South Prong Saint Mary's River Tributary 8 | At confluence with South Prong Saint Mary's River | +97 | Baker County (Unincorporated Areas).
| 12,660 feet upstream from the confluence with South Prong St. Mary's River | +122
Turkey Creek | 1,680 feet upstream of the confluence with Turkey Creek Tributary 2 | +111 | Baker County (Unincorporated Areas).
| 1,250 feet upstream of Barber Road | +116
| 810 feet downstream of Barber Road | +117
Turkey Creek Tributary 1 | At confluence with Turkey Creek | +95 | Baker County (Unincorporated Areas).
| 8,960 feet upstream of State Highway 121 | +138
Turkey Creek Tributary 1.1 | At confluence with Turkey Creek Tributary 1.1 | +98 | Baker County (Unincorporated Areas).
| 1,190 feet upstream of Woodlawn Road | +117
| 1,280 feet upstream of Woodlawn Road | +118
| 1,940 feet upstream of Woodlawn Road | +119
Turkey Creek Tributary 2 | At Confluence with Turkey Creek | +109 | City of Macclenny.
| 3,080 feet upstream of the confluence with Turkey Creek Tributary 2.1 | +125
| 145 feet upstream of U.S. Highway 90 | +129
| At Interstate 10 | +129
Turkey Creek Tributary 2.1 | At confluence with Turkey Creek Tribuatry 2 | +115 | City of Macclenny.
| At Powerline Road | +122
| 3,040 feet upstream of Canal Road | +132
* National Geodetic Vertical Datum.
+ North American Vertical Datum.
# Depth in feet above ground.
ADDRESSES
City of Macclenny
Maps are available for inspection at 32 South 5th Street, Macclenny, FL 32063.
Baker County (Unincorporated Areas)
Maps are available for inspection at 55 North 3rd Street, Macclenny, FL 32063.
Northumberland County, Pennsylvania, and Incorporated Areas
Docket No.: FEMA-B-7701
Boile Run | Approximately 905 feet downstream of State Road 147 | +432 | Township of Lower Augusta.
| Approximately 690 feet upstream of State Road 147 | +432
Dalmatia Creek | Approximately at 90 feet downstream of State Road 147 | +416 | Township of Lower Mahanoy.
| Approximately at 900 feet upstream of State Road 147 | +416
Limestone Run | Approximately at 1,110 feet downstream of Filbert Street | +468 | Borough of Milton, Township of Turbot.
| Approximately at 1,600 feet upstream of Township Route 594 | +519
Mahanoy Creek | Approximately 2,120 feet downstream of State Road 147 | +427 | Township of Jackson.
| Approximately 2,900 feet upstream of State Road 147 | +427
Mahantango Creek | Approximately 1,000 feet downstream of State Road 147 | +400 | Township of Lower Mahanoy.
| Approximately at 3,000 feet upstream of State Road 147 | +404
Muddy Run | Approximately at 3,120 feet downstream of Legislative Route 49102 | +472 | Township of Turbot.
| Approximately at 50 feet downstream of Township Route 572 | +472
Shamokin Creek | Approximately 2,500 feet downstream of State Road 61 | +583 | Township of Ralpho, Township of Shamokin.
| Approximately 2,250 feet upstream of Irish Valley Road | +617
Susquehanna River | Approximately 18.6 miles downstream of Route 61, at Northumberland/Dauphin County line | +400 | Borough of Herndon, Borough of Northumberland, Borough of Riverside, City of Sunbury, Township of Lower Augusta, Township of Lower Mahanoy, Township of Point, Township of Rush, Township of Upper Augusta.
| Approximately 3.9 miles upstream of Route 54, at Northumberland/Montour County line | +468
Tributary No. 1 to Limestone Run | Approximately 2,055 feet downstream of State Road 254 | +476 | Township of Turbot.
| Approximately 250 feet downstream of State Road 254 | +476
* National Geodetic Vertical Datum.
+ North American Vertical Datum.
# Depth in feet above ground.
ADDRESSES
Borough of Herndon
Maps are available for inspection at Herndon Borough Municipal Building, P.O. Box 385, Herndon, PA 17830.
Borough of Milton
Maps are available for inspection at Milton Borough Office, 2nd Filbert Street, Milton, Milton, PA 17847.
Borough of Northumberland
Maps are available for inspection at Northumberland Borough Building, 221 Second Street, Northumberland, PA 17857.
Borough of Riverside
Maps are available for inspection at Riverside Borough Building, 301 Dewart Street, Riverside, PA 17868.
City of Sunbury
Maps are available for inspection at Sunbury City Code Administration Office, 225 Market Street, Sunbury, PA 17801.
Township of Jackson
Maps are available for inspection at Jackson Township Municipal Building, RR 2 Box 605, Herndon, PA 17830.
Township of Lower Augusta
Maps are available for inspection at Lower Augusta Township Building, Rd #3, Box 28, Sunbury, PA 17801.
Township of Lower Mahanoy
Maps are available for inspection at Lower Mahanoy Township Hall, Rd 1, Box 38, Dalmatia, PA 17017.
Township of Point
Maps are available for inspection at Point Township Municipal Building, 759 Ridge Road, Northumberland, PA 17857.

(Catalog of Federal Domestic Assistance No. 97.022, “Flood Insurance.”)

Dated: January 22, 2008.
David I. Maurstad,
Federal Insurance Administrator of the National Flood Insurance Program, Department of Homeland Security, Federal Emergency Management Agency.

[FR Doc. E8-1651 Filed 1-29-08; 8:45 am]

BILLING CODE 9110-12-P